DEPARTMENT OF HEALTH AND HUMAN SERVICES

National Institutes of Health

Center for Scientific Review Amended; Notice of Meeting

Notice is hereby given of a change in the meeting of the Center for Scientific Review Special Emphasis Panel, September 23, 2013, 12:00 p.m. to September 23, 2013, 2:30 p.m., National Institutes of Health, 6701 Rockledge Drive, Bethesda, MD, 20892 which was published in the Federal Register on September 10, 2013, FR 78 Pgs. 55268-55270.

The meeting will be held on October 29, 2013 instead of September 23, 2013 at 12:00 p.m. and will end at 3:00 p.m. The meeting location remains the same. The meeting is closed to the public.

Dated: September 20, 2013.
Michelle Trout,
Program Analyst, Office of Federal Advisory Committee Policy.

[FR Doc. 2013-23404 Filed 9-25-13; 8:45 am]

BILLING CODE 4140-01-P